DEPARTMENT OF COMMERCE

Foreign-Trade Zones Board

[B-51-2024]

Foreign-Trade Zone (FTZ) 59; Authorization of Production Activity; Kawasaki Motors Manufacturing Corp., U.S.A.; (All-Terrain Vehicles); Lincoln, Nebraska

On September 26, 2024, Kawasaki Motors Manufacturing Corp., U.S.A. submitted a notification of proposed production activity to the FTZ Board for its facility within Subzone 59A, in Lincoln, Nebraska.

The notification was processed in accordance with the regulations of the FTZ Board (15 CFR part 400), including notice in the Federal Register inviting public comment (89 FR 80194, October 2, 2024). On January 24, 2025, the applicant was notified of the FTZ Board's decision that no further review of the activity is warranted at this time. The production activity described in the notification was authorized, subject to the FTZ Act and the FTZ Board's regulations, including section 400.14.

Dated: January 24, 2025.
Elizabeth Whiteman,
Executive Secretary.

[FR Doc. 2025-01942 Filed 1-29-25; 8:45 am]

BILLING CODE 3510-DS-P